DEPARTMENT OF ENERGY

Federal Energy Regulatory Commission

[Project No. 6544-004]

Ampersand Collins Hydro, LLC, Dichotomy Collins Hydro, LLC; Notice of Transfer of Exemption

1. On January 2, 2020, Ampersand Collins Hydro, LLC exemptee for the Collins Hydroelectric Project No. 6544, filed a letter notifying the Commission that the project was transferred from Ampersand Collins Hydro, LLC to Dichotomy Collins Hydro, LLC. The exemption from licensing was originally issued on February 9, 1984.¹ The project is located on Chicopee River in Hampden County, Massachusetts. The transfer of an exemption does not require Commission approval.

¹ I-MAXMAT Corporation, 26 FERC ¶ 62,112 (1984). The project was transferred to Ampersand Collins Hydro, LLC on July 8, 2014.

2. Dichotomy Collins Hydro, LLC is now the exemptee of the Collins Hydroelectric Project No. 6544. All correspondence must be forwarded to: Mr. Ian Clark, Dichotomy Collins Hydro, LLC, 65 Ellen Ave, Mahopac, NY 10541, Email: ianc@dichotomycapital.com.

Dated: January 9, 2020.
Kimberly D. Bose,
Secretary.

[FR Doc. 2020-00628 Filed 1-15-20; 8:45 am]

BILLING CODE 6717-01-P